FEDERAL COMMUNICATIONS COMMISSION

[FR ID 332683]

Radio Broadcasting Services; AM or FM Proposals To Change the Community of License

AGENCY: Federal Communications Commission.

ACTION: Notice.

DATES: The agency must receive comments on or before May 1, 2026.

ADDRESSES: Federal Communications Commission, 45 L Street NE, Washington, DC 20554.

FOR FURTHER INFORMATION CONTACT: Rolanda F. Smith, 202-418-2054, Rolanda-Faye.Smith@fcc.gov.

SUPPLEMENTARY INFORMATION: The Media Bureau shall provide notice in the Federal Register that an application to modify an AM or FM station's community of license has been filed. See 71 FR 76208, 76211 (published December 20, 2006). The following applicants filed AM or FM proposals to change the community of license: J. HANSON COMPANY, INC., WZON(AM), FAC ID NO. 66674, FROM: BANGOR, ME, TO: NORRIDGEWOCK, ME, FILE NO. 0000282380; MARION R. WILLIAMS, WAKE(AM), FAC ID NO. 53057, FROM: VALPARAISO, IN, TO: HOBART, IN, FILE NO. 0000286783; MUD RADIO LLC, WFAD(AM), FAC ID NO. 53612, FROM: MIDDLEBURY, VT, TO: BRIDPORT, VT, FILE NO. 0000289332; Q-BROADCASTING CORPORATION, WLBE(AM), FAC ID NO. 73202, FROM: LEESBURG-EUSTIS, FL, TO: GENEVA, FL, FILE NO. 0000289377; GLORY COMMUNICATIONS, INC., WLCZ(FM), FAC ID NO. 171006, FROM: LINCOLNTON, GA, TO: APPLING, GA, FILE NO. 0000285777; RADIO ONE OF NORTH CAROLINA, LLC, WLNK-FM, FAC ID NO. 52553, FROM: INDIAN TRAIL, NC, TO: WEDDINGTON, NC, FILE NO. 0000288139; XAVIER ENTERTAINMENT, LLC, KXAV(FM), FAC ID NO. 171012, FROM: HEBBRONVILLE, TX, TO: BRUNI, TX, FILE NO. 0000289176; AND GTR LICENSES, LLC, WMSU(FM), FAC ID NO. 10349, FROM: STARKVILLE, MS, TO: ARTESIA, MS, FILE NO. 0000289797. The full text of these applications is available electronically via Licensing and Management System (LMS), https://apps2int.fcc.gov/dataentry/public/tv/publicAppSearch.html.

Federal Communications Commission.
Nazifa Sawez,
Assistant Chief, Audio Division, Media Bureau.

[FR Doc. 2026-04114 Filed 2-27-26; 8:45 am]

BILLING CODE 6712-01-P